ENVIRONMENTAL PROTECTION AGENCY

[FRL-7599-8 ]

Notice of Request for Initial Proposals (IPs) for Projects To Be Funded From the Water Quality Cooperative Agreement Allocation (CFDA 66.463—Water Quality Cooperative Agreements)

AGENCY: Environmental Protection Agency (EPA).

ACTION: Notice.

SUMMARY: EPA is soliciting Initial Proposals (IPs) from States, Tribes, local governments, universities, non-profits, and other eligible entities, as shown below in the section called Eligible Applicants, interested in applying for Federal assistance for Water Quality Cooperative Agreements (CFDA 66.463) under the Clean Water Act (CWA) section 104(b)(3). EPA Headquarters intends to award an estimated $3.5 million to eligible applicants through assistance agreements ranging in size from $10,000 up to $500,000 for Water Quality Cooperative Agreements, which are for unique and innovative projects that address the requirements of the National Pollutant Discharge Elimination Systems (NPDES) program with special emphasis on wet weather activities, i.e., storm water, combined sewer overflows, sanitary sewer overflows, and concentrated animal feeding operations as well as projects that enhance the ability of the regulated community to deal with non-traditional pollution problems in priority watersheds. From the IPs received, EPA estimates that 30 to 35 projects may be selected to submit full applications.

The Agency intends to make available at least $200,000 per year of the annual appropriation for Water Quality Cooperative Agreements, from FY 2004 through FY 2005, for projects which address cooling water intake issues to include technical and environmental studies. The Agency has made available $600,000 from FY 2001 through FY 2003. It is expected that the $200,000 available for cooling water intake projects in FY 2004 will be used to fund a project approved in a prior year.

The Agency reserves the right to reject all IPs and make no awards.

DATES: EPA will consider all IPs received on or before 5 p.m. Eastern Time, February 17, 2004. IPs received after the due date, may be reviewed at EPA's discretion.

ADDRESSES: It is preferred that IPs be electronically mailed (E-mailed) to WQCA2004@EPA.GOV. If mailed through the postal service or other means, three copies should be sent to: Barry Benroth, 4204M, WQCA2004 U.S. Environmental Protection Agency, 1200 Pennsylvania Avenue, NW., Washington, DC 20460.

The following address must be used for delivery of the copies by an overnight delivery or courier service: Barry Benroth, 4204M, WQCA2004, Phone 202-564-0672, U.S. Environmental Protection Agency, Room 7324 J, EPA East, 1201 Constitution Avenue, NW., Washington, DC 20004.

FOR FURTHER INFORMATION CONTACT: Barry Benroth by telephone at 202-564-0672 or by E-mail at benroth.barry@epa.gov.

SUPPLEMENTARY INFORMATION:

Purpose of This Request Is for Initial Proposals

The Office of Wastewater Management, Office of Water at EPA Headquarters is requesting IPs from States, Tribes, local governments, non-profit organizations and other eligible entities under the Clean Water Act Section 104(b)(3) for unique and innovative projects that address the requirements of the National Pollutant Discharge Elimination Systems (NPDES) program with special emphasis on wet weather activities, i.e., storm water, and concentrated animal feeding operations as well as projects that enhance the ability of the regulated community to deal with non-traditional pollution problems in priority watersheds.

An organization whose IP is selected for possible Federal assistance must complete an EPA Application for Assistance, including the Federal SF-424 form (Application for Federal Assistance, see 40 CFR 30.12 and 31.10).

Organizations who have an existing agreement under this program are eligible to compete with proposals for new awards.

The Office of Wastewater Management, Office of Water, EPA Headquarters Has Identified the Following High Priority Areas for Consideration

Assistance agreements awarded under Section 104(b)(3) may only be used to conduct and promote the coordination and acceleration of activities such as research, investigations, experiments, training, education, demonstrations, surveys, and studies relating to the causes, effect, extent, prevention, reduction, and elimination of water pollution. These activities, while not defined in the statute, advance the state of knowledge, gather information, or transfer information. For instance, “demonstrations” are generally projects that demonstrate new or experimental technologies, methods, or approaches and the results of the project will be disseminated so that others can benefit from the knowledge gained. A project that is accomplished through the performance of routine, traditional, or established practices, or a project that is simply intended to carry out a task rather than transfer information or advance the state of knowledge, however worthwhile the project may be, is not a demonstration. Research projects may include the application of established practices when they contribute to learning about an environmental concept or problem.

The Office of Wastewater Management at EPA Headquarters has identified several subject areas for priority consideration. EPA will award Assistance Agreements for research, investigations, experiments, training, demonstrations, surveys and studies related to the causes, effects, extent, prevention, reduction, and elimination of water pollution in the subject areas shown below in bold. Example projects are shown for each area.

Water and Wastewater Infrastructure

Benefits assessment of wastewater infrastructure investments including funding from the Clean Water State Revolving Fund program.

Tools, techniques, benchmarking, or training for more efficient wastewater and other systems performance.

Capacity development for Tribes, Native Villages, and small communities to effectively operate and maintain water and wastewater treatment facilities.

Innovative water efficiency programs or techniques to reduce infrastructure costs or municipal water use.

Demonstration of remote techniques for assessing the performance and environmental impacts of on-site/decentralized wastewater systems.

Innovative approaches or methods to reduce risk or impact of terrorist or other attacks to integrity and effectiveness of wastewater collections and treatment.

Impacts of Wet Weather Flows

Test results achieved by peak excess flow technologies in collection systems at CSO outfalls and at treatment plants, and test performance of devices before and after blending. Testing may include pollutants in effluent or ambient settings.

Measure, or develop tools to determine the effectiveness of storm water BMPs.

Develop and pilot storm water discharge and ambient water monitoring techniques for gauging water quality improvements.

Develop and pilot sample performance measures for use by small Municipal Separate Storm Sewer Systems (MS4s) to incorporate into storm water management plans.

Outreach on low impact development (LID) and its potential uses.

Provide tools to help permitees select options and overcome barriers in storm water pollution prevention plan development.

Pathogens

Conduct studies on monitoring pathogens in wastewater and biosolids, including bacterial, viruses and parasites.

Conduct studies on treatability of pathogens in wastewater.

Characterization of impacts of PH levels on municipal infrastructure systems (pretreatment discharges to POTWs).

National Pollutant Discharge Elimination System (NPDES) Program Strategies To Implement Watershed-based Efforts

Conduct a demonstration project that provides support to facilitate watershed-based permitting and trading.

Develop and pilot innovative techniques to facilitate NPDES program management for enhanced results, integrity and/or efficiency.

Animal Feeding Operations

Develop and demonstrate innovative or alternative technologies for CAFOs to treat/process wastewater or manage manure.

CAFO producer outreach programs to train/educate the industry on implementation of the CAFO rule.

EPA may also consider other project areas for funding to the extent authorized by CWA section 104(b)(3) and to the extent funds are available for such project areas.

Statutory Authority, Applicable Regulations, and Funding Level

Water Quality Cooperative Agreements are awarded under the authority of section 104(b)(3) of the Clean Water Act (33 U.S.C. 1254(b)(3)).

The regulations governing the award and administration of Water Quality Cooperative Agreements are 40 CFR part 30 (for institutions of higher learning, hospitals, and other non-profit organizations) and 40 CFR part 31 and 40 CFR part 35, subparts A and B (for States, Tribes, local governments, intertribal consortia, and interstate agencies).

Applicants requested to submit a full application (SF-424) will be required to comply with Intergovernmental Review requirements (40 CFR part 29).

Applicants must provide a Dun and Bradstreet (D&B) Data Universal Numbering System (DUNS) number with the full application. Organizations may obtain the number by calling, toll free, 1-866-705-5711.

Total funding available for award by Headquarters will depend on EPA's appropriation for Fiscal Year 2004; however, it is estimated that $3.5 million will be available for funding approved projects. The average size of an award is anticipated to be approximately $100,000.

Construction projects, except for the construction required to carry out a demonstration project, and acquisition of land, are not eligible for funding under this program. New or on-going programs to implement environmental controls are not eligible for funding under this program.

Request for Initial Proposal Format and Contents

IPs should be limited to four pages. Full application packages should not be submitted at this time. It is recommended that confidential information not be included in the IP. The following format should be used for all IPs:

Name of Project:

Point of Contact: (Individual and Organization Name, Address, Phone Number, Fax Number, E-mail Address)

Is This a Continuation of a Previously Funded Project (if so, please provide the number and status of the current grant or cooperative agreement):

Proposed Award Amount:

Proposed Awardee Cost Share: (Cost sharing is not required)

Description of General Budget Proposed To Support Project:

Project Area: (based on areas of interest shown above)

Project Description: (Should not exceed three pages of single-spaced text)

Expected Accomplishments or Product, With Dates, Environmental Results and Interim Milestones: This section should also include a discussion of a communication plan for distributing the project results to interested parties.

Describe How the Project Meets the Evaluation Criteria Specified Below:

EPA IP Evaluation Criteria

EPA will award Water Quality Cooperative Agreements on a competitive basis and evaluate IPs based on the following criteria (maximum points for each element are shown).

• The relationship of the proposed project to the priorities identified in this notice. (5)

• How well the project proposes to address a nationally important need, issue, or interest. (30)

• Communication plan to transfer results of the project to other potentially interested parties. (25)

• How well the project furthers the goal of the Clean Water Act to prevent, reduce, and eliminate water pollution. (20)

• Leverage of other resources (e.g., cost share, participation by other organizations) as part of the proposed approach. (10)

• Cost effectiveness and reasonableness of the proposal. (10)

The IPs will be evaluated by EPA staff on the elements shown above. Maximum points equals 100. EPA may consider IPs even if all criteria are not fully met, provided the proposed projects meet the applicable statutory and regulatory requirements and funds are available for such projects. IPs which are not in compliance with the notice, i.e., do not provide the required information, are submitted by ineligible applicants, are considered to be primarily construction projects, or are for the acquisition of land will not be considered.

IP Selection

Final selection of IPs will be made by the Director, Office of Wastewater Management. Selected organizations will be notified and requested to submit a full application. It is expected that unsuccessful applicants will be notified by e-mail.

Eligible Applicants

Eligible applicants for assistance agreements under section 104(b)(3) of the Clean Water Act are State water pollution control agencies, Tribal governments, intertribal consortia, interstate agencies, and other public or non-profit private agencies, institutions, organizations and individuals.

Application Procedure

Electronic transmittal of IPs is preferred to facilitate the review process. Hard copies are acceptable. Please send three copies of the IPs if it is not electronically transmitted.

Dispute Resolution Process

Procedures at 40 CFR 30.63 and 40 CFR 31.70 apply.

Type of Assistance

It is expected that all the awards under this program will be cooperative agreements. States, interstate agencies, federally recognized tribes, and intertribal consortia meeting the requirements at 40 CFR 35.504 may include the funds for Water Quality Cooperative Agreements in a Performance Partnership Grant (PPG) in accordance with the regulations governing PPGs at 40 CFR part 35, subparts A and B. For states and interstate agencies that choose to do so, the regulations provide that the work plan commitments that would have been included in the WQCA must be included in the PPG work plan. A description of the Agency's substantial involvement in cooperative agreements will be included in the final agreement.

Schedule of Activities

This is the estimated schedule of activities for submission, review of proposals and notification of selections:

February 17, 2004—RFIPs due to EPA.

March 29, 2004—Initial approvals identified and sponsors of projects selected for funding will be requested to submit a formal application package. Schedule may be modified based on the level of response.

A list of selected projects will be posted on the Office of Wastewater Management Web site http://www.epa.gov/owm/wqca/2004.htm. This web site may also contain additional information about this request. Deadline extensions, if any, will be posted on this web site and not in the Federal Register.

Dated: December 11, 2003.
Jane S. Moore,
Deputy Director, Office of Wastewater Management.

[FR Doc. 03-31236 Filed 12-17-03; 8:45 am]

BILLING CODE 6560-50-P